DEPARTMENT OF ENERGY

Office of Science; DOE/NSF Nuclear Science Advisory Committee

AGENCY: Department of Energy.

ACTION: Notice of open meeting.

SUMMARY: This notice announces a meeting of the DOE/NSF Nuclear Science Advisory Committee (NSAC). Federal Advisory Committee Act (Public Law 92-463, 86 Stat. 770) requires that public notice of these meetings be announced in the Federal Register.

DATES: Thursday, September 7, 2000; 9 a.m. to 6 p.m. and Friday, September 8, 2000; 9 a.m. to 5 p.m.

ADDRESSES: Doubletree Hotel, 1750 Rockville Pike, Regency Conference Room, Rockville, Maryland 20852-1699

FOR FURTHER INFORMATION CONTACT: Cathy A. Hanlin, U.S. Department of Energy; 19901 Germantown Road; Germantown, Maryland 20874-1290; Telephone: 301-903-3613

SUPPLEMENTARY INFORMATION: Purpose of Meeting: To provide advice and guidance on a continuing basis to the Department of Energy and the National Science Foundation on scientific priorities within the field of basic nuclear science research.

Tentative Agenda:

Thursday, September 7, 2000, and Friday, September 8, 2000

• Briefing on DOE Office of Science; Office of High Energy and Nuclear Physics; and Division of Nuclear Physics Activities and Budget Outlook

• Briefing on NSF Mathematical and Physical Sciences Directorate; Physics Division; and Nuclear Physics Program Activities and Budget Outlook.

• Discussion of the charge to NSAC on the development of a Long Range Plan.

• Public Comment (10-minute rule).

Public Participation: The meeting is open to the public. If you would like to file a written statement with the Committee, you may do so either before or after the meeting. If you would like to make oral statements regarding any of these items on the agenda, you should contact Cathy A. Hanlin at 301-903-3613. You must make your request for an oral statement at least 5 business days before the meeting. Reasonable provision will be made to include the scheduled oral statements on the agenda. The Chairperson of the Committee will conduct the meeting to facilitate the orderly conduct of business. Public comment will follow the 10-minute rule.

Minutes: The minutes of the meeting will be available for public review and copying within 30 days at the Freedom of Information Public Reading Room; Room 1E-190; Forrestal Building; 1000 Independence Avenue, SW., Washington, DC, between 9 a.m. and 4 p.m., Monday through Friday, except Federal holidays.

Issued at Washington, DC, on August 16, 2000.
Rachel M. Samuel,
Deputy Advisory Committee, Management Officer.

[FR Doc. 00-21190 Filed 8-18-00; 8:45 am]

BILLING CODE 6450-01-P